DEPARTMENT OF ENERGY

Federal Energy Regulatory Commission

[Project No. 2661-082]

Pacific Gas and Electric Company; Notice of Application for Amendment of License and Soliciting Comments, Motions To Intervene, and Protests

Take notice that the following hydroelectric application has been filed with the Commission and is available for public inspection:

a: Application Type: Request for temporary variance of the water surface elevation requirement, pursuant to Article 403 of the Hat Creek Hydroelectric Project.

b: Project No.: 2661-082.

c: Date Filed: February 10, 2011.

d: Applicant: Pacific Gas and Electric Company.

e: Name of Project: Hat Creek Hydroelectric Project (P-2661).

f: Location: The Hat Creek Hydroelectric Project is located on Hat Creek, near the town of Cassel, in Shasta County, California.

g. Filed Pursuant to: Federal Power Act, 16 U.S.C. 791(a)-825(r).

h: Applicant Contact: Mr. Jason F.R. Vann, Pacific Gas and Electric Company, 245 Market Street, San Francisco, California 94105, Tel: (415) 973-3727.

i. FERC Contact: Kelly Houff, (202) 502-6393, Kelly.Houff@ferc.gov.

j. Deadline for filing comments, motions to intervene, and protests: 15 days from the issuance date of this notice.

All documents may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-866-208-3676, or for TTY, (202) 502-8659. Although the Commission strongly encourages electronic filing, documents may also be paper-filed. To paper-file, mail an original and seven copies to: Kimberly D. Bose, Secretary, Federal Energy Regulatory Commission, 888 First Street, NE., Washington, DC 20426. Please include the project number (P-2661-082) on any documents or motions filed.

The Commission's Rules of Practice and Procedure require all intervenors filing documents with the Commission to serve a copy of that document on each person whose name appears on the official service list for the project. Further, if an intervenor files comments or documents with the Commission relating to the merits of an issue that may affect the responsibilities of a particular resource agency, they must also serve a copy of the document on that resource agency.

k. Description of Request: Pacific Gas and Electric Company (PG&E) is requesting a temporary variance of its water surface elevation requirement of Cassel Pond, pursuant to Article 403 of the license. PG&E proposes a temporary reduction of one foot, from 3,188.27 feet National Geodetic Vertical Datum (NVGD) ± 0.5 feet to 3,187.27 feet NVGD ± 0.5 feet. The purpose of the water surface elevation of Cassel Pond is to mitigate the new water leakage found on the downstream side of the embankment of Hat 1 Fore bay Dam. The water leakage is in the same general vicinity of drainage mitigation work performed in 2009. PG&E does not consider the leakage an immediate dam safety concern but needs to reduce the water surface elevation of Cassel Pond to actively investigate the cause of the leakage and perform corrective measures. The water elevation level variance would be in effect from the date of the Commission approval until PG&E can assess whether the source of the new leaks are related to the leaks observed in 2009, and can implement corrective measures. The estimated length of the elevation reduction is 6 to 8 months; however, the duration of the reduction depends on the time it takes to locate the root cause of the leakage and the time necessary to complete the corrective actions implemented.

l. A copy of the application is available for review at the Commission in the Public Reference Room or may be viewed on the Commission's Web site at http://www.ferc.gov using the “eLibrary” link. Enter the docket number excluding the last three digits in the docket number field to access the document. For assistance, contact FERC Online Support. A copy is also available for inspection and reproduction at the address in item h above.

You may also register online at http://www.ferc.gov/docs-filing/esubscription.asp to be notified via e-mail of new filings and issuances related to this or other pending projects. For assistance, contact FERC Online Support.

m. Individuals desiring to be included on the Commission's mailing list should so indicate by writing to the Secretary of the Commission.

Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

Any filings must bear in all capital letters the title “COMMENTS,” “PROTEST,” or “MOTION TO INTERVENE,” as applicable, and the Project Number of the particular application to which the filing refers. A copy of any motion to intervene must also be served upon each representative of the Applicant specified in the particular application.

Federal, State, and local agencies are invited to file comments on the described application. A copy of the application may be obtained by agencies directly from the applicant. If an agency does not file comments within the time specified for filing comments, it will be presumed to have no comments. One copy of an agency's comments must also be sent to the Applicant's representatives.

Dated: March 4, 2011.
Kimberly D. Bose,
Secretary.

[FR Doc. 2011-5483 Filed 3-9-11; 8:45 am]

BILLING CODE 6717-01-P